SMALL BUSINESS ADMINISTRATION

[Disaster Declaration #15320 and #15321; U.S. Virgin Islands Disaster Number VI-00011]

Presidential Declaration Amendment of a Major Disaster for the U.S. Virgin Islands

AGENCY: U.S. Small Business Administration.

ACTION: Amendment 1.

SUMMARY: This is an amendment of the Presidential declaration of a major disaster for the U.S. Virgin Islands, (FEMA-4340-DR), dated 09/20/2017.

Incident: Hurricane Maria.

Incident Period: 09/16/2017 and continuing.

DATES: Issued on 09/23/2017.

Physical Loan Application Deadline Date: 11/20/2017.

Economic Injury (EIDL) Loan Application Deadline Date: 06/20/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for the U.S. Virgin Islands, dated 09/20/2017, is hereby amended to include the following areas as adversely affected by the disaster:

Primary Areas (Physical Damage and Economic Injury Loans): Saint John, Saint Thomas

Contiguous Counties (Economic Injury Loans Only): None

All other information in the original declaration remains unchanged.

(Catalog of Federal Domestic Assistance Number 59008)

James E. Rivera,
Associate Administrator for Disaster Assistance.

[FR Doc. 2017-21721 Filed 10-6-17; 8:45 am]

BILLING CODE 8025-01-P